ELECTION ASSISTANCE COMMISSION

Sunshine Act Meetings

AGENCY: Election Assistance Commission.

ACTION: Notice, request for comment.

SUMMARY: In compliance with the Paperwork Reduction Act of 1995, the EAC announces an information collection and seeks public comment on the provisions thereof. The EAC intends to submit this proposed information collection (National Mail Voter Registration Form) to the Director of the Office of Management and Budget for approval. Section 9(a) of the National Voter Registration Act of 1993 (“NVRA”) and Section 802 of the Help America Vote Act of 2002 (“HAVA”) requires the responsible agency to maintain a national mail voter registration form for U.S. citizens that want to register to vote, to update registration information due to a change of name, make a change of address or to register with a political party by returning the form to their state election office.

DATES: Comments must be received by 5 p.m. Eastern on Monday, February 17, 2025.

ADDRESSES: Comments on the proposed information collection should be submitted electronically via https://www.regulations.gov (docket ID: EAC-2024-0004) or by email at research@eac.gov. Written comments on the proposed information collection can also be sent to the U.S. Election Assistance Commission, 633 3rd Street NW, Suite 200, Washington, DC 20001, Attn: NVRA.

FOR FURTHER INFORMATION CONTACT: Raymond Williams at 202-924-0794, or email research@eac.gov; U.S. Election Assistance Commission, 633 3rd Street NW, Suite 200, Washington, DC 20001.

SUPPLEMENTARY INFORMATION:

Comments: Public comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

Obtaining a Copy of the National Mail Voter Registration Form: To obtain a free copy of the registration form: (1) Download a copy at https://www.eac.gov/voters/national-mail-voter-registration-form; or (2) write to the EAC (including your address and phone number) at U.S. Election Assistance Commission, 633 3rd Street NW, Suite 200, Washington, DC 20001, Attn: National Mail Voter Registration Form.

Title and OMB Number: National Voter Registration Act (NVRA) Regulations for Voter Registration Application; OMB Number 3265-0015.

Purpose: Under the PRA (44 U.S.C. 3501-3520), Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA requires Federal agencies to provide a 60-day notice in the Federal Register concerning each proposed collection of information, including each proposed extension of an existing collection of information, before submitting the collection to OMB for approval. To comply with this requirement, the EAC is publishing notice of the proposed collection of information set forth in this document.

Background: Persons wishing to register to vote may use the National Mail Voter Registration form (“Federal form” or “form”) to apply for voter registration. After completing the form, an applicant submits her/his form to their respective state election office for processing. States covered by the NVRA process the information from the form to register an applicant to vote. Neither EAC nor any other Federal agency processes or collects any information from the Federal form that a registration applicant submits to a state. Rather, EAC prescribes the Federal form, and states collect and record the information applicants submit. The Federal form is composed of the registration application, instructions for completing the application (General Instructions and Application Instructions), and state-specific instructions that identify each state's particular requirements. A copy of the current form in English and 17 additional translated languages is available on EAC's website, at https://www.eac.gov/voters/national-mail-voter-registration-form.

Public Comments: Public comments are invited on:

• Whether the proposed collection of information is necessary for the proper performance of the functions of the agency, including whether the information shall have practical utility;

• The accuracy of the agency's estimate of the burden of the proposed information collection;

• Ways to enhance the quality, utility, and clarity of the information to be collected; and

• Ways to minimize the burden of the information collection on respondents, including through the use of automated collection techniques or other forms of information technology.

Please note that comments submitted in response to this Notice are public record. Before including any detailed personal information, you should be aware that your submitted comments, including your personal information, will be available for public review.

Affected Public (Respondents): U.S. citizens eligible to vote in jurisdictions that accept and use the National Mail Voter Registration form.

Number of Respondents: 2,500,000.

Responses per Respondent: 1.

Estimated Burden per Response: 0.12 hours per response.

Estimated Total Annual Burden Hours: 291,667 hours annualized.

Frequency: Annually.

Camden Kelliher,
General Counsel, U.S. Election Assistance Commission.

[FR Doc. 2024-29679 Filed 12-12-24; 4:15 pm]

BILLING CODE 4810-71-P